DEPARTMENT OF TRANSPORTATION

Federal Aviation Administration

14 CFR Part 39

[Docket No. FAA-2019-0495; Product Identifier 2019-NM-029-AD; Amendment 39-19752; AD 2019-19-16]

RIN 2120-AA64

Airworthiness Directives; Airbus SAS Airplanes

AGENCY: Federal Aviation Administration (FAA), Department of Transportation (DOT).

ACTION: Final rule.

SUMMARY: The FAA is superseding Airworthiness Directive (AD) 2019-05-09, which applied to certain Airbus SAS Model A320-251N and -271N airplanes, and Model A321-253N airplanes. AD 2019-05-09 required repetitive detailed inspections of certain electrical harnesses for discrepancies, and corrective actions if necessary. AD 2019-05-09 also provided an optional terminating modification for the repetitive detailed inspections. This AD retains the actions of AD 2019-05-09, and adds a requirement for a terminating modification for the repetitive detailed inspections, as specified in a European Aviation Safety Agency (EASA) AD, which is incorporated by reference. This AD was prompted by reports of low clearance between the electrical harness and nearby hydraulic pipes in the inboard trailing edge of the wing. The FAA is issuing this AD to address the unsafe condition on these products.

DATES: This AD is effective November 13, 2019.

The Director of the Federal Register approved the incorporation by reference of a certain publication listed in this AD as of April 4, 2019 (84 FR 10259, March 20, 2019).

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov by searching for and locating Docket No. FAA-2019-0495.

Examining the AD Docket

You may examine the AD docket on the internet at http://www.regulations.gov by searching for and locating Docket No. FAA-2019-0495; or in person at Docket Operations between 9 a.m. and 5 p.m., Monday through Friday, except Federal holidays. The AD docket contains this final rule, the regulatory evaluation, any comments received, and other information. The address for Docket is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

The EASA, which is the Technical Agent for the Member States of the European Union, has issued EASA AD 2019-0035, dated February 15, 2019 (“EASA AD 2019-0035”) (also referred to as the Mandatory Continuing Airworthiness Information, or “the MCAI”), to correct an unsafe condition for certain Airbus SAS Model A320-251N and -271N airplanes, and Model A321-253N airplanes.

The FAA issued a notice of proposed rulemaking (NPRM) to amend 14 CFR part 39 to supersede AD 2019-05-09, Amendment 39-19591 (84 FR 10259, March 20, 2019) (“AD 2019-05-09”). AD 2019-05-09 applied to certain Airbus SAS Model A320-251N and -271N airplanes, and Model A321-253N airplanes. The NPRM published in the Federal Register on July 1, 2019 (84 FR 31254). The NPRM proposed to continue to require repetitive detailed inspections of certain electrical harnesses for discrepancies and corrective actions, if necessary. The NPRM also proposed to add a requirement for a terminating modification for the repetitive detailed inspections.

This AD was prompted by reports of low clearance between the electrical harness and nearby hydraulic pipes in the inboard trailing edge of the wing. The FAA is issuing this AD to address this condition, which could lead to chafing of electrical harnesses in the vicinity of hydraulic pipes and could result in a potential source of ignition in the flammable fluid leakage zone, and possibly result in a fire or explosion and loss of the airplane. See the MCAI for additional background information.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

This AD requires compliance with EASA AD 2019-0035, which the Director of the Federal Register approved for incorporation by reference as of April 4, 2019 (84 FR 10259, March 20, 2019). This material is reasonably available because the interested parties have access to it through their normal course of business or by the means identified in the ADDRESSES section.

Costs of Compliance

The FAA estimates that this AD affects 14 airplanes of U.S. registry. The FAA estimates the following costs to comply with this AD:

EStimated Costs for Required Actions
Action | Labor cost | Parts cost | Cost per product | Cost on U.S. operators
Retained actions from AD 2019-05-09 | 6 work-hours × $85 per hour = $510 | $0 | $510 | $7,140
New proposed actions | 16 work-hours × $85 per hour = $1,360 | 8,900 | 10,260 | 143,640

The FAA estimates the following costs to do any necessary on-condition action that would be required based on the results of any required actions. The FAA has no way of determining the number of aircraft that might need this on-condition action:

EsTimated Costs of On-Condition Actions
Labor cost | Parts cost | Cost per product
Up to 8 work-hours × $85 per hour = $680 | (*) | Up to $680 *
* The FAA has received no definitive data that would enable the agency to provide parts cost estimates.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2019-05-09, Amendment 39-19591 (84 FR 10259, March 20, 2019), and adding the following new AD:

2019-19-16 Airbus SAS: Amendment 39-19752; Docket No. FAA-2019-0495; Product Identifier 2019-NM-029-AD.

(a) Effective Date

This AD is effective November 13, 2019.

(b) Affected ADs

This AD replaces AD 2019-05-09, Amendment 39-19591 (84 FR 10259, March 20, 2019) (“AD 2019-05-09”).

(c) Applicability

This AD applies to Airbus SAS Model A320-251N and -271N airplanes, and Model A321-253N airplanes, certificated in any category, as identified in European Aviation Safety Agency (EASA) AD 2019-0035, dated February 15, 2019 (“EASA AD 2019-0035”).

(d) Subject

Air Transport Association (ATA) of America Code 92, Electrical system installation.

(e) Reason

This AD was prompted by reports of low clearance between the electrical harness and nearby hydraulic pipes in the inboard trailing edge of the wing. The FAA is issuing this AD to address this condition, which, if not detected and corrected, could lead to chafing of electrical harnesses in the vicinity of hydraulic pipes and could result in a potential source of ignition in the flammable fluid leakage zone, and possibly result in a fire or explosion and loss of the airplane.

(f) Compliance

Comply with this AD within the compliance times specified, unless already done.

(g) Requirements

Except as specified in paragraph (h) of this AD: Comply with all required actions and compliance times specified in, and in accordance with, EASA AD 2019-0035.

(h) Exceptions to EASA AD 2019-0035

(1) For purposes of determining compliance with the requirements of this AD: Where paragraphs (1) and (3) of EASA AD 2019-0035 refer to its effective date, this AD requires using April 4, 2019 (the effective date of AD 2019-05-09).

(2) For purposes of determining compliance with the requirements of this AD: Where paragraph (4) of EASA AD 2019-0035 refers to its effective date, this AD requires using the effective date of this AD.

(3) The “Remarks” section of EASA AD 2019-0035 does not apply to this AD.

(i) No Reporting Requirement

Although certain service information referenced in EASA AD 2019-0035 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0035 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, International Section, Transport Standards Branch, FAA, 2200 South 216th St., Des Moines, WA 98198; telephone and fax 206-231-3223.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 4, 2019 (84 FR 10259, March 20, 2019).

(i) European Union Aviation Safety Agency (EASA) AD 2019-0035, dated February 15, 2019.

(ii) [Reserved]

(4) For information about EASA AD 2019-0035, contact the EASA, at Konrad-Adenauer-Ufer 3, 50668 Cologne, Germany; telephone +49 221 89990 6017; email ADs@easa.europa.eu; Internet www.easa.europa.eu. You may find this EASA AD on the EASA website at https://ad.easa.europa.eu.

(5) You may view this material at the FAA, Transport Standards Branch, 2200 South 216th St., Des Moines, WA. For information on the availability of this material at the FAA, call 206-231-3195. This material may be found in the AD docket on the internet at http://www.regulations.gov by searching for and locating Docket No. FAA-2019-0495.

(6) You may view this material that is incorporated by reference at the National Archives and Records Administration (NARA). For information on the availability of this material at NARA, email fedreg.legal@nara.gov, or go to: http://www.archives.gov/federal-register/cfr/ibr-locations.html.

Issued in Des Moines, Washington, on September 23, 2019.
Michael Kaszycki,
Acting Director, System Oversight Division, Aircraft Certification Service.

[FR Doc. 2019-22032 Filed 10-8-19; 8:45 am]

BILLING CODE 4910-13-P